FEDERAL COMMUNICATIONS COMMISSION

Deletion of Item From Sunshine Act Meeting

April 13, 2016.

The following item has been deleted from the list of items scheduled for consideration at the Tuesday, April 17, 2018, Open Meeting and previously listed in the Commission's Notice of April 10, 2018.

Item No. | Bureau | Subject
7 | MEDIA | TITLE: Amendment of Section 73.624(g) of the Commission's Rules Regarding Submission of FCC Form 2100, Schedule G, Used to Report TV Stations' Ancillary or Supplementary Services (MB Docket No. 17-264); Modernization of Media Regulation Initiative (MB Docket No. 17-105). SUMMARY: The Commission will consider a Report and Order that would revise Section 73.624(g) of its rules to reduce broadcaster reporting obligations relating to the provision of ancillary or supplementary services.

Federal Communications Commission.
Katura Jackson,
Federal Register Liaison Officer, Office of the Secretary.

[FR Doc. 2018-08207 Filed 4-16-18; 11:15 am]

BILLING CODE 6712-01-P